FEDERAL COMMUNICATIONS COMMISSION

47 CFR Part 73

[DA 03-778; MB Docket No. 03-72, RM-10674; MB Docket No. 03-73, RM-10675; MB Docket No. 03-74, RM-10676; MB Docket No. 03-75, RM-10677]

Radio Broadcasting Services; Eden, TX; Leedey, OK; Memphis, TX; and Silverton, TX

AGENCY: Federal Communications Commission.

ACTION: Proposed rule.

SUMMARY: This document proposes four allotments in Eden, Texas, Leedey, Oklahoma, Memphis, Texas, and Silverton, Texas. The Commission requests comment on a petition filed by Maurice Salsa proposing the allotment of Channel 252A at Silverton, Texas, as the community's first local service. Channel 252A can be allotted to Silverton in compliance with the Commission's minimum distance separation requirements with a site restriction of 8.2 km (5.1 miles) east of Silverton. The coordinates for Channel 252A at Silverton are 34-28-15 North Latitude and 101-13-09 West Longitude. See SUPPLEMENTARY INFORMATION infra.

DATES: Comments must be filed on or before May 5, 2003, and reply comments on or before May 20, 2003.

ADDRESSES: Federal Communications Commission, Washington, DC 20554. In addition to filing comments with the FCC, interested parties should serve the petitioner as follows: Maurice Salsa, 5616 Evergreen Valley Drive, Kingwood, Texas 77345; Robert Fabian, 4 Hickory Crossing Lane, Argyle, Texas 76226; and Linda Crawford, 3500 Maple Avenue, #132, Dallas, Texas 75219.

FOR FURTHER INFORMATION CONTACT: Deborah A. Dupont, Media Bureau (202) 418-7072.

SUPPLEMENTARY INFORMATION: This is a synopsis of the Commission's Notice of Proposed Rulemaking, MB Docket Nos. 03-72, 03-73, 03-74, and 03-75; adopted March 12, 2003, and released March 14, 2003. The full text of this Commission decision is available for inspection and copying during normal business hours in the FCC Reference Information Center (Room CY-A257), 445 12th Street, SW., Washington, DC. The complete text of this decision may also be purchased from the Commission's copy contractor, Qualex International, Portals II, 445 12th Street, SW., Room CY-B402, Washington, DC 20554, telephone (202) 863-2893.

The Commission further requests comment on a petition filed by Robert Fabian proposing the allotment of Channel 297A at Leedey, Oklahoma, as the community's first local service. Channel 297A can be allotted to Leedey in compliance with the Commission's minimum distance separation requirements with a site restriction of 9.4 km (5.8 miles) northwest of Leedey. The coordinates for Channel 297A at Leedey are 35-56-36 North Latitude and 99-23-48 West Longitude.

The Commission further requests comment on a petition filed by Linda Crawford proposing the allotment of Channel 294A at Eden, Texas, as the community's second local FM service. Channel 294A can be allotted to Eden in compliance with the Commission's minimum distance separation requirements with a site restriction of 11.4 km (7.1 miles) southwest of Eden. The coordinates for Channel 294A at Eden are 31-10-00 North Latitude and 99-57-01 West Longitude. Concurrence in this allotment has been received from the Mexican government.

The Commission further requests comment on a petition filed by Maurice Salsa proposing the allotment of Channel 283A at Memphis, Texas, as the community's third local FM service. Channel 283A can be allotted to Memphis in compliance with the Commission's minimum distance separation requirements with a site restriction of 8.7 km (5.4 miles) southeast of Memphis. The coordinates for Channel 283A at Memphis are 34-41-14 North Latitude and 100-27-03 West Longitude.

The Provisions of the Regulatory Flexibility Act of 1980 do not apply to this proceeding. Members of the public should note that from the time a Notice of Proposed Rulemaking is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Oklahoma, is amended by adding Leedey, Channel 297A.

3. Section 73.202(b), the Table of FM Allotments under Texas, is amended by adding Channel 294A at Eden, Channel 283A at Memphis, and Silverton, Channel 252A.

Federal Communications Commission.
John A. Karousos,
Assistant Chief, Audio Division, Media Bureau.

[FR Doc. 03-7471 Filed 3-27-03; 8:45 am]

BILLING CODE 6712-01-P